DEPARTMENT OF THE TREASURY

Internal Revenue Service

Open Meeting of the Taxpayer Advocacy Panel Joint Committee

AGENCY: Internal Revenue Service (IRS), Treasury.

ACTION: Notice of meeting.

SUMMARY: An open meeting of the Taxpayer Advocacy Panel Joint Committee will be conducted. The Taxpayer Advocacy Panel is soliciting public comments, ideas, and suggestions on improving customer service at the Internal Revenue Service.

DATES: The meeting will be held August 9, 2022, and August 10, 2022.

FOR FURTHER INFORMATION CONTACT: Gilbert Martinez at 1-888-912-1227 or (737) 800-4060.

SUPPLEMENTARY INFORMATION: Notice is hereby given pursuant to Section 10(a)(2) of the Federal Advisory Committee Act, 5 U.S.C. App. (1988) that an open meeting of the Taxpayer Advocacy Panel Joint Committee will be held Tuesday, August 9, 2022, and Wednesday August 10, 2022, from 8:30 a.m. to 5:00 p.m. Eastern Standard Time. The public is invited to make oral comments or submit written statements for consideration. For more information, please contact Gilbert Martinez at 1-888-912-1227 or (737-800-4060), or write TAP Office 3651 S IH-35, STOP 1005 AUSC, Austin, TX 78741, or post comments to the website: http://www.improveirs.org.

The agenda will include various committee issues for submission to the IRS and other TAP related topics. Public input is welcomed.

Dated: July 1, 2022.
Kevin Brown,
Acting Director, Taxpayer Advocacy Panel.

[FR Doc. 2022-14648 Filed 7-8-22; 8:45 am]

BILLING CODE 4830-01-P